DEPARTMENT OF AGRICULTURE

Forest Service

Manti-La Sal National Forest Resource Advisory Committee; Meeting

AGENCY: Forest Service, USDA.

ACTION: Notice of meeting.

SUMMARY: The Manti-La Sal National Forest Resource Advisory Committee will meet in Price, Utah. The Committee is meeting as authorized under the Secure Rural Schools and Community Self-Determination Act (Pub. L. 110-343) and in compliance with the Federal Advisory Committee Act. The purpose of the meeting is to hold the second meeting of the newly formed Committee.

DATES: The meeting will be held October 20, 2010, and will begin at 9 a.m.

ADDRESSES: The meeting will be held in the conference room of the Utah Division of Wildlife Resources Building, 319 North Carbonville Road, Price, Utah. Written comments should be sent to Rosann Fillmore, Manti-La Sal National Forest, 599 West Price River Drive, Price, UT 84501. Comments may also be sent via e-mail to rdfillmore@fs.fed.us or via facsimile to 435-637-4940.

All comments, including names and addresses when provided, are placed in the record and are available for public inspection and copying. The public may inspect comments received at the Manti-La Sal National Forest, 599 West Price River Drive, Price, UT 84501. Visitors are encouraged to call ahead to 435-636-3525 to facilitate entry into the building.

FOR FURTHER INFORMATION CONTACT: Rosann Fillmore, RAC coordinator, USDA, Manti-La Sal National Forest, 599 West Price River Drive, Price, UT 84501; 435-636-3525; E-mail rdfillmore@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Consideration of Proposal Forms, (2) Development of Proposal Review Process, (3) Development of Guidelines, (4) Public comment. Persons who wish to bring related matters to the attention of the Committee may file written statements with the Committee staff before or after the meeting. Public input sessions will be provided and individuals who made written requests by September 15, 2010 will have the opportunity to address the Committee at those sessions.

Dated: October 4, 2010.
Pamela E. Brown,
Forest Supervisor.

[FR Doc. 2010-25394 Filed 10-7-10; 8:45 am]

BILLING CODE 3410-11-P